DEPARTMENT OF JUSTICE

Antitrust Division

Notice Pursuant to the National Cooperative Research and Production Act of 1993—Undersea Technology Innovation Consortium

Notice is hereby given that, on April 21, 2020, pursuant to Section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, Altron Inc., Mount Pleasant, SC; Aretec Inc., Providence, RI; BAE Systems Land & Armaments L.P., Minneapolis, MN; BoxBoat Technologies LLC, Bethesda, MD; Btech Acoustics LLC, Barrington, RI; Cardinal Point Captains Inc., San Diego, CA; Cesium GS Inc., Philadelphia, PA; Consolidated Ocean Technologies Inc., Ventura, CA; Coulometrics LLC, Chattanooga, TN; DeepWater Buoyancy Inc., Biddeford, ME; Dynexus Technology Inc., Niwot, CO; GE Research, Niskayuna, NY; Hefring LLC, Boston, MA; iArchimedes Inc., Arlington, VA; Kenautics Inc., Encinitas, CA; KULR Technology Corporation, Campbell, CA; Maritime Arresting Technologies, Tarpon Springs, FL; Michigan Tech. University, Houghton, MI; Mistral Inc., Bethesda, MD; RJE International Inc., Irvine, CA; SAILDRONE INC., Alameda, CA; Sellers and Associates LLC (S&A), Chesapeake, VA; Torch Technologies Inc., Huntsville, AL; University of Dayton, Dayton, OH; University of Houston Cullen College of Engineering, Houston, TX; University of South Alabama, Mobile, AL; and Venator Solutions LLC, San Diego, CA have been added as parties to this venture.

Also, Adolf Meller Co. dba Meller Optics, Providence, RI; Analytical Graphics Inc., Exton, PA; AVL Powertrain Engineering Inc., Plymouth, MI; Carillon Technologies Management, Arlington, VA; DLT Solutions, Herndon, VA; Falmouth Scientific Inc., Cataumet, MA; Manufacturing Techniques Inc., Kilmarnock, VA; Planck Aerosystems Inc., San Diego, CA; Presco Engineering, Woodbridge, CT; Riptide Autonomous Solutions LLC, Plymouth, MA; RPI Group Inc., Fredericksburg, VA; Scientific Solutions Inc., Nashua, NH; Tampa Deep Sea Xplorers LLC, Tampa, FL; URSA Inc., Exeter, NH; Welkins LLC, Downers Grove, IL; and XST Inc., San Diego, CA have withdrawn as parties from this venture.

No other changes have been made in either the membership or planned activity of the group research project. Membership in this group research project remains open, and UTIC intends to file additional written notifications disclosing all changes in membership.

On October 9, 2018, UTIC filed its original notification pursuant to Section 6(a) of the Act. The Department of Justice published a notice in the Federal Register pursuant to Section 6(b) of the Act on November 2, 2018 (83 FR 55203).

The last notification was filed with the Department on January 21, 2020. A notice was published in the Federal Register pursuant to Section 6(b) of the Act on February 27, 2020 (85 FR 11397).

Suzanne Morris,
Chief, Premerger and Division Statistics Unit, Antitrust Division.

[FR Doc. 2020-09661 Filed 5-5-20; 8:45 am]

BILLING CODE 4410-11-P